INTERNATIONAL TRADE COMMISSION

[Inv. No. 337-TA-814]

Certain Automotive GPS Navigation Systems, Components Thereof, and Products Containing Same Institution of Investigation

AGENCY: U.S. International Trade Commission.

ACTION: Notice.

SUMMARY: Notice is hereby given that a complaint was filed with the U.S. International Trade Commission on October 21, 2011, under section 337 of the Tariff Act of 1930, as amended, 19 U.S.C. 1337, on behalf of Beacon Navigation GmbH of Switzerland. A letter supplementing the complaint was filed on November 8, 2011. The complaint, as supplemented, alleges violations of section 337 based upon the importation into the United States, the sale for importation, and the sale within the United States after importation of certain automotive GPS navigation systems, components thereof, and products containing same by reason of infringement of certain claims of U.S. Patent No. 6,374,180 (“the '180 patent”); U.S. Patent No. 6,178,380 (“the '380 patent”); U.S. Patent No. 6,029,111 (“the '111 patent”); and U.S. Patent No. 5,862,511 (“the '511 patent”). The complaint further alleges that an industry in the United States exists as required by subsection (a)(2) of section 337.

The complainant requests that the Commission institute an investigation and, after the investigation, issue exclusion orders and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on November 17, 2011, Ordered that—

(1) Pursuant to subsection (b) of section 337 of the Tariff Act of 1930, as amended, an investigation be instituted to determine whether there is a violation of subsection (a)(1)(B) of section 337 in the importation into the United States, the sale for importation, or the sale within the United States after importation of certain automotive GPS navigation systems, components thereof, and products containing same that infringe one or more of claims 1-4, 7-9, and 15 of the '180 patent; claims 1-4, 18-21, and 25-31 of the '380 patent; claims 1-3, 5, 10-12, and 17-21 of the '111 patent; and claims 1 and 3 of the '511 patent, and whether an industry in the United States exists as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors, 19 U.S.C. 1337(d)(1), (f)(1),(g)(1), and shall not include the other issues raised by certain of the respondents in their responses to the Commission's Notice of Receipt of Complaint; Solicitation of Comments Relating to the Public Interest (76 FR 66750);

(3) For the purpose of the investigation so instituted, the following are hereby named as parties upon which this notice of investigation shall be served:

(a) The complainant is: Beacon Navigation GmbH, c/o Acton Treuhand AG, Innere Güterstrasse 4, 6304 Zug, Switzerland.

(b) The respondents are the following entities alleged to be in violation of section 337, and are the parties upon which the complaint is to be served:

Audi AG, Ettinger Strasse, D-85045, Ingolstadt, Germany; Audi of America, Inc., 3800 W. Hamlin Road, Auburn Hills, MI 48326;

Audi of America, LLC, 2200 Ferdinand Porsche Dr., Herndon, VA 20171;

Bayerische Motoren Werke AG, Petuelring 130, D-80788, Munich, Germany;

BMW of North America, LLC, 300 Chestnut Ridge Rd., Woodcliff Lake, NJ 07677;

BMW Manufacturing Co., LLC, 1400 Hwy. 101 S., Greer, SC 29651-6731;

Chrysler Group LLC, 1000 Chrysler Drive, Auburn Hills, MI 48326;

Ford Motor Company, One American Road, Dearborn, MI 48126;

General Motors Company, 300 Renaissance Center, Detroit, MI 48265;

Honda Motor Co., Ltd., 1-1, 2-chome, Minami-Aoyama, Minato-ku, Tokyo 107-8556, Japan;

Honda North America, Inc., 700 Van Ness Ave., Torrance, CA 90501;

American Honda Motor Co., Inc., 1919 Torrance Blvd., Torrance, CA 90501;

Honda Manufacturing of Alabama, LLC, 1800 Honda Drive, Lincoln, AL 35096;

Honda Manufacturing of Indiana, LLC, 2755 North Michigan Ave., Greensburg, IN 47240;

Honda of America Mfg., Inc., 24000 Honda Pkwy., Marysville, OH 43040;

Hyundai Motor Company, 231 Yangjae-Dong, Seocho-Gu, Seoul 137-938, South Korea;

Hyundai Motor America, 10550 Talbert Ave., Fountain Valley, CA 92708;

Hyundai Motor Manufacturing Alabama, LLC, 700 Hyundai Blvd., Montgomery, AL 36105;

Kia Motors Corp. 231 Yangjae-dong, Seocho-gu, Seoul 137-938, South Korea;

Kia Motors America, Inc., 111 Peters Canyon Rd., Irvine, CA 92606;

Kia Motors Manufacturing Georgia, Inc., 7777 Kia Parkway, West Point, GA 31833;

Mazda Motor Corporation, 3-1 Shinchi, Fuchu-cho, Aki-gun, Hiroshima 730-8670, Japan;

Mazda Motor of America, Inc., 7755 Irvine Center Dr., Irvine, CA 92623;

Daimler AG, Mercedesstrasse 137, 70327 Stuttgart, Germany;

Mercedes-Benz USA, LLC, One Mercedes Dr., Montvale, NJ 07645;

Mercedes-Benz U.S. International, Inc., One Mercedes Dr., Vance, AL 35490;

Nissan Motor Co., Ltd., 1-1, Takashima 1-chome, Nishi-ku, Yokohama-shi, Kanagawa 220-8686, Japan;

Nissan North America, Inc., One Nissan Way, Franklin, TN 37067;

Dr. Ing. h.c. F. Porsche AG, Porscheplatz 1, D-70435 Stuttgart, Germany;

Porsche Cars North America, Inc., 980 Hammond Dr., Ste. 1000, Atlanta, GA 30328;

Saab Automobile AB, 461 80 Trollhattan, Sweden;

Saab Cars North America, Inc., 4327 Delemere Ct., Royal Oak, MI 48073;

Suzuki Motor Corporation, 300 Takatsuka-cho, Minami-ku, Hamamatsu City, 432-8611, Japan;

American Suzuki Motor Corporation, 3251 E. Imperial Hwy., Brea, CA 92821;

Jaguar Land Rover North America, LLC, 555 MacArthur Blvd., Mahwah, NJ 07430;

Jaguar Cars Limited, Abbey Road, Whitley, Coventry CV3 4LF, United Kingdom;

Land Rover, Banbury Road, Gaydon, Warwickshire, CV35 0RR, United Kingdom;

Toyota Motor Corporation, 1 Toyota-cho, Toyota City, Aichi Prefecture 471-8571, Japan;

Toyota Motor North America, Inc., 19001 S. Western Avenue, Torrance, CA 90501;

Toyota Motor Sales, U.S.A., Inc., 19001 S. Western Avenue, Torrance, CA 90501;

Toyota Motor Engineering & Manufacturing North America, Inc., 25 Atlantic Avenue, Erlanger, KY 41018;

Toyota Motor Manufacturing, Indiana, Inc., 4000 Tulip Tree Drive, Princeton, IN 47670;

Toyota Motor Manufacturing, Kentucky, Inc., 1001 Cherry Blossom Way, Georgetown, KY 40324;

Toyota Motor Manufacturing, Mississippi, Inc., 1200 Magnolia Way, Blue Springs, MS 38828;

Volkswagen AG, Brieffach 1849, Wolfsburg, 38436, Germany;

Volkswagen Group of America, Inc., 2200 Ferdinand Porsche Dr., Herndon, VA 20171;

Volkswagen Group of America Chattanooga Operations, LLC, 2200 Ferdinand Porsche Dr., Herndon, VA 20171;

Volvo Car Corporation, 405 31 Goteborg, Sweden;

Volvo Cars of North America, LLC, 1 Volvo Dr., Rockleigh, NJ 07647.

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 17, 2011.
James R. Holbein,
Secretary to the Commission.

[FR Doc. 2011-30186 Filed 11-22-11; 8:45 a.m.]

BILLING CODE 7020-02-P